SECURITIES AND EXCHANGE COMMISSION

[File No. 500-1]

Aduddell Industries, Inc., Capital Markets Technologies, Inc., Challenger Powerboats, Inc., and CLX Medical, Inc.; Order of Suspension of Trading

March 1, 2012.

It appears to the Securities and Exchange Commission that there is a lack of current and accurate information concerning the securities of Aduddell Industries, Inc. because it has not filed any periodic reports since the period ended September 30, 2008.

It appears to the Securities and Exchange Commission that there is a lack of current and accurate information concerning the securities of Capital Markets Technologies, Inc. because it has not filed any periodic reports since the period ended September 30, 2008.

It appears to the Securities and Exchange Commission that there is a lack of current and accurate information concerning the securities of Challenger Powerboats, Inc. because it has not filed any periodic reports since the period ended December 31, 2007.

It appears to the Securities and Exchange Commission that there is a lack of current and accurate information concerning the securities of CLX Medical, Inc. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 1, 2012 and terminating at 11:59 p.m. EDT on March 14, 2012.

By the Commission.
Jill M. Peterson,
Assistant Secretary.

[FR Doc. 2012-5368 Filed 3-1-12; 4:15 pm]

BILLING CODE 8011-01-P